DEPARTMENT OF ENERGY

Federal Energy Regulatory Commission

[Docket Nos. CP11-161-000; PF10-23-000]

Tennessee Gas Pipeline Company; Notice of Application

On March 31, 2011, Tennessee Gas Pipeline Company (Tennessee), 1001 Louisiana Street, Houston, Texas 77002, filed with the Federal Energy Regulatory Commission (Commission) an application under section 7(c) of the Natural Gas Act (NGA), as amended, and part 157 of the Commission's regulations to construct, install, modify, operate, and maintain certain pipeline and compressor facilities to be located in Pennsylvania and New Jersey (the Northeast Upgrade Project). The Project involves (1) Installing approximately 39.5 miles of five 30-inch pipeline loop segments in Pennsylvania and New Jersey, (2) installing an additional 22,310 horsepower of compression at two existing compressor stations located in Pennsylvania; (3) restaging an existing compressor station and installing filter separators at three existing compressor stations in Pennsylvania and one existing compressor station in New Jersey; and (4) upgrading an existing meter station in New Jersey. In addition to the certificate authority requested in its application, Tennessee seeks authorization, pursuant to section 7(b) of the NGA, to abandon facilities that will be retired in conjunction with the replacement of certain metering facilities, as more fully described in Tennessee's application. Tennessee proposes to construct the Northeast Upgrade Project facilities to increase pipeline capacity to provide up to an additional 636,000 dekatherms per day of firm natural gas transportation service into northeast U.S. markets.

Questions regarding the application may be directed to Jacquelyne Rocan, Senior Counsel, Tennessee Gas Pipeline Company, 1001 Louisiana Street, Houston, Texas 77002, phone: (713) 420-4544, fax: (713) 420-1601, e-mail: jacquelyne.rocan@elpaso.com, or Thomas Joyce, Manager, Rates and Regulatory Affairs, Tennessee Gas Pipeline Company, 1001 Louisiana Street, Houston, Texas 77002, phone: (713) 420-3299, fax: (713) 420-1605, e-mail: tom.joyce@elpaso.com.

On July 20, 2010, the Commission staff granted Tennessee's request to use the pre-filing process and assigned Docket No. PF10-23-000 for this proceeding during the pre-filing review of the Northeast Upgrade Project. Now, as of the filing of Tennessee's application on March 31, 2011, the pre-filing process for this project has ended. From this time forward, Tennessee's proceeding will be conducted in Docket No. CP11-161-000, as noted in the caption of this Notice.

Pursuant to section 157.9 of the Commission's rules, 18 CFR 157.9, within 90 days of this Notice the Commission staff will either: complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

There are two ways to become involved in the Commission's review of this project. First, any person wishing to obtain legal status by becoming a party to the proceedings for this project should, on or before the comment date stated below, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit seven copies of filings made with the Commission and must mail a copy to the applicant and to every other party in the proceeding. Only parties to the proceeding can ask for court review of Commission orders in the proceeding.

Persons who wish to comment only on the environmental review of this project should submit an original and two copies of their comments to the Secretary of the Commission. Environmental cementers will be placed on the Commission's environmental mailing list, will receive copies of the environmental documents, and will be notified of meetings associated with the Commission's environmental review process. Environmental cementers will not be required to serve copies of filed documents on all other parties. However, the nonparty commenters will not receive copies of all documents filed by other parties or issued by the Commission (except for the mailing of environmental documents issued by the Commission) and will not have the right to seek court review of the Commission's final order.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

The Commission encourages electronic submission of protests and interventions in lieu of paper using the “eFiling” link at http://www.ferc.gov. Persons unable to file electronically should submit an original and seven copies of the protest or intervention to the Federal Energy Regulatory Commission, 888 First Street, NE., Washington, DC 20426. This filing is accessible on-line at http://www.ferc.gov using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free) or TTY, call (202) 502-8659.

Comment Date: 5 p.m. Eastern Time on May 4, 2011.

Dated: April 13, 2011.
Kimberly D. Bose,
Secretary.

[FR Doc. 2011-9518 Filed 4-19-11; 8:45 am]

BILLING CODE 6717-01-P